DEPARTMENT OF HEALTH AND HUMAN SERVICES

National Institutes of Health

Notice of National Institutes of Health Workshop on the Enrollment and Retention of Participants in NIH-Funded Clinical Trials

SUMMARY: The National Institutes of Health (NIH) is conducting a workshop with interested stakeholders in order to hear perspectives on issues related to the enrollment and retention of research participants in NIH-funded clinical trials. The workshop will be open to the public.

DATES: The workshop will be held on Friday, July 25, 2014, from 8:15 a.m. to 5:45 p.m., in the NIH Porter Neuroscience Research Center, 35 Convent Drive, Bethesda, Maryland 20892.

FOR FURTHER INFORMATION CONTACT: Registration and workshop information is available at the NIH Office of Science Policy (OSP) Web site (http://osp.od.nih.gov). OSP's mailing address is 6705 Rockledge Drive, Suite 750, Bethesda, MD 20892. Additional questions about the workshop may be directed to the office by calling 301-436-9838, or by emailing OCRBP-OSP@od.nih.gov.

SUPPLEMENTARY INFORMATION: The NIH's ability to improve the efficiency and effectiveness of its clinical trials is critical to the agency's mission to foster research strategies that protect and improve human health. The goal of the workshop is to explore strategies to enhance enrollment, recruitment, and retention of participants in clinical trials.

The meeting agenda covers a range of topics related to the enrollment and retention of clinical trial participants, including: current challenges in clinical trial participant enrollment; cultural and social considerations in clinical trial participant enrollment and outreach; recruitment and outreach considerations for underrepresented and vulnerable populations; roles for public foundations in clinical trial participant enrollment and retention; public private partnerships to improve patient and public awareness and engagement; models to identify and support clinical trial participants; and strategies for tracking and monitoring clinical trial participation and post-trial communication. A full meeting agenda will be available prior to the workshop at the NIH OSP Web site (http://od.osp.nih.gov).

The meeting will be open to the public, with attendance limited to the space available. Instructions for preregistration (required) are available on the NIH OSP Web site (http://osp.od.nih.gov). Individuals who plan to attend and need special assistance, such as sign language interpretation or other reasonable accommodations, should notify the Contact Person listed below in advance of the meeting.

In the interest of security, the NIH has instituted stringent procedures for entrance onto its Bethesda campus. All vehicles, including taxis, hotel, and airport shuttles will be inspected before being allowed on campus. Visitors will be asked to show one form of identification (for example, a government-issued photo ID, driver's license, or passport) and to state the purpose of their visit. For more information about the security measures at the NIH, please visit the Web site at http://www.nih.gov/about/visitorsecurity.htm.

Dated: June 27, 2014.
Lawrence A. Tabak,
Principal Deputy Director, National Institutes of Health.

[FR Doc. 2014-15681 Filed 7-2-14; 8:45 am]

BILLING CODE 4140-01-P